DEPARATMENT OF COMMERCE

National Oceanic and Atmospheric Administration

RIN 0648-XM96

NOAA to Transfer Ownership of John N. Cobb to Seattle Maritime Academy

AGENCY: National Oceanic and Atmospheric Administration (NOAA), Department of Commerce.

SUMMARY: The National Oceanic and Atmospheric Administration's Office of Marine and Aviation Operations propose to donate NOAA Ship John N. Cobb to Seattle Central Community College: Seattle Maritime Academy under the Stevenson-Wydler Technology Innovation Act of 1980.

DATES: Comments must be received by March 6, 2009. Also, there will be a public meeting held to obtain public comments at the Marine Operations Center-Pacific at 1800, February 17, 2009.

ADDRESSES: The meeting will be held at 1801 Fairview Avenue East, Seattle, WA 98102. You may submit comments to chad.cary@noaa.gov.

FOR FURTHER INFORMATION CONTACT: LT Chad Cary by email chad.cary@noaa.gov or phone (206) 553-7916.

SUPPLEMENTARY INFORMATION:

Background

John N. Cobb, decommissioned August 13, 2008, had been an active research vessel for 58 years. The National Historic Preservation Act of 1966 requires that federal properties meeting historical criteria are to be recognized as historical assets. As a result of John N. Cobb's length of service, significant contributions to the community and historic architectural design, the vessel has been determined eligible and is scheduled to make the National Register of Historic Places spring of 2009. Upon being determined eligible, the vessel became subject to rules and regulations described in 36 CFR Part 800: Protection of Historic Properties-The Section 106 Process.

Seattle Central Community College: Seattle Maritime Academy is an eligible recipient of John N. Cobb under the Stevenson-Wydler Technology and Innovation Act of 1980 and consequently submitted a request for the vessel to the Commanding Officer, Marine Operations Center-Pacific. This request includes a strategy for continued use and preservations of the vessel. The Office of Marine and Aviation Operations is confident the Academy possesses the necessary resources to continue the preservation effort. Seattle Maritime Academy is a reputable organization and will likely serve John N. Cobb well in future sea going years. Prior to transferring the vessel to Seattle Maritime Academy, NOAA, the Washington State Historic Preservation Office and the Advisory Council on Historic Preservation will establish a memorandum of agreement including preservation covenants.

Dated: January 28, 2009.
Jonathan W. Bailey,
NOAA Director, Office of Marine and Aviation Operations.

[FR Doc. E9-2374 Filed 2-3-09; 8:45 am]

BILLING CODE 3510-12-S